DEPARTMENT OF HOUSING AND URBAN DEVELOPMENT

[Docket No. FR-7037-N-01]

Affirmative Fair Housing Marketing Plan—Information Collection: Solicitation of Comment 60-Day Notice Under Paperwork Reduction Act of 1995; OMB Control No.: 2529-0013

AGENCY: Office of the Assistant Secretary for Fair Housing and Equal Opportunity, HUD.

ACTION: Notice.

SUMMARY: This notice solicits public comment for a period of 60 days, consistent with the Paperwork Reduction Act of 1995 (PRA), on the Affirmative Fair Housing Marketing Plan (AFHMP) forms. The AFHMP forms collect information on the advertising and outreach activities of owners/developers of HUD Multifamily, Single Family, and Condominium/Cooperative Housing projects to attract applicants/buyers throughout the housing market area regardless of race, color, national origin, religion, sex, disability, or familial status. The purpose of this notice is to allow for 60 days of public comment.

DATES: Comment Due Date: March 26, 2021.

ADDRESSES: Interested persons are invited to submit comments regarding this notice to Colette Pollard, Reports Management Officer, QDAM, Department of Housing and Urban Development, 451 7th Street SW, Room 4176, Washington, DC 20410. Communications must refer to the above docket number and title. There are two methods for submitting public comments.

1. Submission of Comments by Mail. Comments may be submitted by mail to QDAM, Department of Housing and Urban Development, 451 7th Street SW, Room 4176, Washington, DC 20410;

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

Note: To receive consideration as public comments, comments must be submitted through one of the two methods specified above. Again, all submissions must refer to the docket number and title of the notice.

No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling QDAM at 202-402-3400 (this is not a toll free number). Individuals who are deaf or hard of hearing and individuals with speech impairments may access this number via TTY by calling the toll-free Federal Information Relay Service at (800) 877-8339. Copies of all comments submitted are available for inspection and downloading at www.regulations.gov.

FOR FURTHER INFORMATION CONTACT: DeAndra Cullen, Deputy Assistant Secretary for Policy, Legislative Initiatives and Outreach, Office of Fair Housing and Equal Opportunity, Department of Housing and Urban Development, 451 7th Street SW, Washington, DC 20410, at 202-402-4115 (this is not a toll-free number) or DeAndra.JohnsonCullen@hud.gov. Individuals with hearing or speech impairments may access this number via TTY by calling the Federal Information Relay Service during working hours at 800-877-8339 (this is a toll-free number). Copies of the proposed information collection is available at www.hud.gov.

SUPPLEMENTARY INFORMATION: This notice informs the public that HUD is seeking approval from OMB for the information collection described in Section A.

A. Overview of Information Collection

Title of Information Collection: Affirmative Fair Housing Marketing Plan.

OMB Approval Number: 2529-0013.

Type of Request: Revision of a currently approved collection.

Form Number: HUD-935.2A, HUD 935.2B, HUD-935.2C.

Description of the need for the information and proposed use: Under the AFHM Regulations (24 CFR part 200, subpart M), all applicants for participation in Federal Housing Administration (FHA) subsidized and unsubsidized housing programs that involve the development or rehabilitation of the following types of housing must submit an AFHM Plan on a prescribed form: (1) Multifamily projects or manufactured home parks of five or more lots, units, or spaces; (2) a single family property, where the property is located in a subdivision and the builder or developer intends to sell five or more properties in the subdivision, and a lender is making an initial application for mortgage insurance; or (3) dwelling units, when the applicant's participation in FHA housing programs had exceeded or would thereby exceed development of five or more such dwelling units during the year preceding the application (not counting the development of single family dwelling units for occupancy by a mortgagor on property owned by the mortgagor and in which the applicant had no interest prior to entering into the contract for construction or rehabilitation).

HUD is requesting that the OMB approve the revision of forms: HUD-935.2A Affirmative Fair Housing Marketing Plan—Multifamily Housing, HUD-935.2B Affirmative Fair Housing Marketing Plan—Single Family Housing, and HUD-935.2C Affirmative Fair Housing Marketing Plan—Condominiums or Cooperatives. These forms assist HUD in fulfilling its duty under the Fair Housing Act to administer its programs and activities relating to housing and urban development in a manner that affirmatively furthers fair housing, by promoting a condition in which individuals of similar income levels in the same housing market area have available to them a like range of housing choices, regardless of race, color, national origin, religion, sex, disability, or familial status. This collection also promotes compliance with Executive Order 11063, which requires Federal agencies to take all necessary and appropriate action to prevent discrimination in federally insured and subsidized housing. Under the AFHM Regulations (24 CFR part 200, subpart M), all applicants for participation in Federal Housing Administration (FHA) subsidized and unsubsidized housing programs that involve the development or rehabilitation of the following types of housing must submit an AFHM Plan on a prescribed form: (1) Multifamily projects or manufactured home parks of five or more lots, units, or spaces; (2) a single family property, where the property is located in a subdivision and the builder or developer intends to sell five or more properties in the subdivision, and a lender is making an initial application for mortgage insurance; or (3) dwelling units, when the applicant's participation in FHA housing programs had exceeded or would thereby exceed development of five or more such dwelling units during the year preceding the application (not counting the development of single family dwelling units for occupancy by a mortgagor on property owned by the mortgagor and in which the applicant had no interest prior to entering into the contract for construction or rehabilitation). If this information was not collected, it would prevent HUD from ensuring compliance with affirmative fair housing marketing requirements.

The revision to the HUD-935.2A is to clarify the instructions involving when respondents must submit an updated form for HUD review. In addition, there have been formatting changes to clarify when multiple responses are allowed versus singular response in a dropdown format for occupancy and reason for updated submission. There is also a change made to the references to the Census resources for accurate data reporting and prioritization of Decennial Census data. Lastly, the racial and ethnic demographic fields have been updated in the worksheets to match the categories provided in Census data. The HUD-935.2B and C have been edited to include internet and social media advertising.

Respondents: Applicants for FHA subsidized and unsubsidized housing programs.

Estimated Number of Respondents: 5,703. For the HUD 935.2A: On an annual basis, there are approximately 303 respondents that submit new plans and 1,080 respondents that review their existing plans and submit updated plans. There are 4,320 respondents who will review their AFHMP and determine that it does not need to be submitted for HUD approval.

For the HUD 935.2.B & C: On an annual basis, there are approximately 30 respondents that submit new plans.

Estimated Number of Responses: 5,733.

Frequency of Response: 1 per annum.

Average Hours per Response: The average hours per response is 2.61 hours. (For the HUD-935.2A, the hours per response are: 6 hours (new plans) and 4 hours (review and update plans) and 2 hours (review only). For the 935.2B & C, the hours per response is 6 hours).

Total Estimated Burden: 14,958 hours.

Information collection | Number of respondents | Frequency of response | Responses per annum | Burden hour per response | Annual burden hours | Hourly cost per response | Annual cost
HUD-935.2A (MFH) | 5,703 | 1 | 5,703 | New 6 × 303 Review & Update 4 × 1,080 Review 2 × 4,320 | New 1,818 Review & Update 4,320 Review 8,640 | Respondents $35/hr (professional work) $16/hr (clerical work) $1.25 per report mailing | Respondents New = ($35 × 4 × 303) + ($16 × 2 × 303) = $52,116. Updates = ($35 × 2 × 1,080) + ($16 × 2 × $1,080) = $110,160.
|  |  |  |  |  |  | Reviews = ($35 × 2 × 4,320) = $302,400.
|  |  |  |  |  |  | Mailing Costs = $1.25 × 1,383 = $1,728.75.
|  |  |  |  |  |  | Annual Cost = $52,116 +$110,160 + $302,400 + $1,728.75 = $466,404.75.
|  |  |  |  |  | Government $35.93/hr ¹ (professional work) $16.35/hr ² (clerical work) | Government New = ($35.93 × 3 × 303) + ($16.35 × 0.5 × 303) = $35,137.40. Reviews & Updates = ($35.93 × 3 × 1,080) + ($16.35 × 0.5 × 1,080) = $125,242.20.
|  |  |  |  |  |  | Annual Cost = $35,137.40+ $125,242.20 = $160,379.60.
HUD-935.2B (SFH) & C (Condos and Co-Ops) | 30 | 1 | 30 | 6 | 180 | Respondents $35/hr (professional work) $16/hr (clerical work) $1.25 per report mailing | Respondents ($35 × 4 × 30) + ($16 × 2 × 30) = $5,160. $1.25 × 30 = $37.50. Annual Cost = $5,160 + $37.50 = $5,197.50.
|  |  |  |  |  | Government $35.93/hr (professional work) $16.35/hr (clerical work) | Government Annual Cost = ($35.93 × 3 × 30) + ($16.35 × 0.5 × 30) = $3,478.95.
Total | 5,733 | * 1 | 5,733 | Avg. of 2.61 | 14,958 | Avg. of $31.53 | Respondents: $471,602.25. Government: $163,858.55.
¹ Rate for GS 12 Step 5 ($35.93/hr) based on the salary information available on OPM.gov.
² Rate for GS 5 step 5 ($16.35/hr) based on the salary information available on OPM.gov.
* Each.

Solicitation of Public Comment

In accordance with 5 CFR 1320.8(d)(1), HUD is specifically soliciting comment from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

In addition, HUD requests comments on ways to modernize marketing given the rise of internet and social media advertising.

HUD encourages interested parties to submit comment in response to these questions.

DeAndra Cullen,
Deputy Assistant Secretary for Policy, Legislative Initiatives and Outreach.

[FR Doc. 2021-01474 Filed 1-22-21; 8:45 am]

BILLING CODE 4210-67-P